COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products and a service to the Procurement List that will be furnished by nonprofit agencies employing persons who are blind or have other severe disabilities, and deletes products from the Procurement List previously furnished by such agencies.

DATES: Effective Date: 3/12/2017.

ADDRESSES: Committee for Purchase From People Who Are Blind or Severely Disabled, 1401 S. Clark Street, Suite 715, Arlington, Virginia, 22202-4149.

FOR FURTHER INFORMATION CONTACT: Amy B. Jensen, Telephone: (703) 603-7740, Fax: (703) 603-0655, or email CMTEFedReg@AbilityOne.gov.

SUPPLEMENTARY INFORMATION:

Additions

On 11/28/2016 (81 FR 85538-85540) and 12/30/2016 (81 FR 96442-96443), the Committee for Purchase From People Who Are Blind or Severely Disabled published notices of proposed additions to the Procurement List.

After consideration of the material presented to it concerning capability of qualified nonprofit agencies to provide the products and services and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and services are added to the Procurement List:

Products

NSN(s)—Product Name(s):

9905-00-NIB-0376—Flag, Marking, 2-1/2″ x 3-1/2″, 21″ Staff, Fluorescent Orange

9905-00-NIB-0377—Flag, Marking, 2-1/2″ x 3-1/2″, 21″ Staff, Fluorescent Pink

9905-00-NIB-0378—Flag, Marking, 2-1/2″ x 3-1/2″, 21″ Staff, Orange

9905-00-NIB-0379—Flag, Marking, 2-1/2″ x 3-1/2″, 21″ Staff, Red

9905-00-NIB-0380—Flag, Marking, 2-1/2″ x 3-1/2″, 21″ Staff, Yellow

9905-00-NIB-0384—Flag, Marking, 2-1/2″ x 3-1/2″, 15″ Staff, Yellow

9905-00-NIB-0386—Flag, Marking, 2-1/2″ x 3-1/2″, 15″ Staff, Red

9905-00-NIB-0387—Flag, Marking, 2-1/2″ x 3-1/2″, 15″ Staff, Orange

9905-00-NIB-0389—Flag, Marking, 4″ x 5″, 21″ Staff, Fluorescent Orange

9905-00-NIB-0390—Flag, Marking, 4″ x 5″ 21″ Staff, Fluorescent Pink

9905-00-NIB-0391—Flag, Marking, 4″ x 5″, 21″ Staff, Orange

9905-00-NIB-0392—Flag, Marking, 4″ x 5″, 21″ Staff, Red

9905-00-NIB-0393—Flag, Marking, 4″ x 5″ 21″ Staff, Yellow

Mandatory for: Total Government Requirement

Mandatory Source(s) of Supply: West Texas Lighthouse for the Blind, San Angelo, TX

Contracting Activity: General Services Administration, Fort Worth, TX

Distribution: B-List

Service

Service Type: Administrative Support Service

Mandatory for: Federal Aviation Administration, Regional Offices, (Except Burlington, MA), Fort Worth, TX, 10101 Hillwood Parkway, Fort Worth, TX

Mandatory Source(s) of Supply: ServiceSource, Inc., Oakton, VA, 15000 Aviation Blvd., Lawndale, CA

Mandatory Source(s) of Supply: Goodwill Industries of Southern California, Panarama City, CA, 901 Locust Street, Kansas City, MO

Mandatory Source(s) of Supply: JobOne, Independence, MO, 2300 East Devon Avenue, Des Plaines, IL

Mandatory Source(s) of Supply: Jewish Vocational Service and Employment Center, Chicago, IL

Contracting Activity: Dept of Transportation, Federal Aviation Administration

Deletions

On 12/23/2016 (81 FR 94340) and 12/30/2016 (81 FR 96442-96443), the Committee for Purchase From People Who Are Blind or Severely Disabled published notices of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN(s)—Product Name(s):

2510-00-535-6797—Side Rack, Vehicle

2510-00-571-6968—Side Rack, Vehicle

2510-00-860-0517—Side Rack, Vehicle

2510-00-860-0523—Side Rack, Vehicle

2510-01-180-1099—Stake, Vehicle Body

Mandatory Source(s) of Supply: UNKNOWN

Contracting Activity: Defense Logistics Agency Land and Maritime

NSN(s)—Product Name(s):

7520-00-162-6153—Stand, Calendar Pad, for 3″ x 3-3/4″ refill, Gray

7520-00-139-4341—Stand, Calendar Pad, for 3″ x 3-3/4″ refill, Beige

Mandatory Source(s) of Supply: LC Industries, Inc., Durham, NC

Contracting Activity: General Services Administration, New York, NY

NSN(s)—Product Name(s):

7195-01-567-9523—Bulletin Board, Fabric, 36″ x 24″, Plastic Frame

Mandatory Source(s) of Supply: The Lighthouse for the Blind, Inc. (Seattle Lighthouse), Seattle, WA

Contracting Activities: Department of Veterans Affairs, Strategic Acquisition Center General Services Administration, Philadelphia, PA

NSN(s)—Product Name(s):

6515-00-NIB-0480—Glove Powdered, Perry Orthopaedic

Mandatory Source(s) of Supply: Bosma Industries for the Blind, Inc., Indianapolis, IN

Contracting Activity: Department of Veterans Affairs

NSN(s)—Product Name(s):

8410-01-415-2906—Slacks, Serge, Army, Women's, Green, 4MR

8410-01-415-2909—Slacks, Serge, Army, Women's, Green, 6WR

8410-01-415-2911—Slacks, Serge, Army, Women's, Green, 6MR

8410-01-415-5138—Slacks, Serge, Army, Women's, Green, 6MT

8410-01-415-5139—Slacks, Serge, Army, Women's, Green, 6WT

8410-01-415-5140—Slacks, Serge, Army, Women's, Green, 8WR

8410-01-415-5141—Slacks, Serge, Army, Women's, Green, 8MR

8410-01-415-5142—Slacks, Serge, Army, Women's, Green, 8WP

8410-01-415-5143—Slacks, Serge, Army, Women's, Green, 10MT

8410-01-415-5144—Slacks, Serge, Army, Women's, Green, 8MT

8410-01-415-5145—Slacks, Serge, Army, Women's, Green, 10JR

8410-01-415-6989—Slacks, Serge, Army, Women's, Green, 10WR

8410-01-415-6990—Slacks, Serge, Army, Women's, Green, 10MR

8410-01-415-6991—Slacks, Serge, Army, Women's, Green, 12MP

8410-01-415-6992—Slacks, Serge, Army, Women's, Green, 10JT

8410-01-415-6993—Slacks, Serge, Army, Women's, Green, 10MT

8410-01-415-6994—Slacks, Serge, Army, Women's, Green, 12WP

8410-01-415-6995—Slacks, Serge, Army, Women's, Green, 12JT

8410-01-415-6996—Slacks, Serge, Army, Women's, Green, 14WP

8410-01-415-6997—Slacks, Serge, Army, Women's, Green, 14JR

8410-01-415-6998—Slacks, Serge, Army, Women's, Green, 14JP

8410-01-415-6999—Slacks, Serge, Army, Women's, Green, 14MR

8410-01-415-7000—Slacks, Serge, Army, Women's, Green, 14WR

8410-01-415-7001—Slacks, Serge, Army, Women's, Green, 14WT

8410-01-415-7007—Slacks, Serge, Army, Women's, Green, 16JP

8410-01-415-7008—Slacks, Serge, Army, Women's, Green, 16WR

8410-01-415-7009—Slacks, Serge, Army, Women's, Green, 16MR

8410-01-415-7010—Slacks, Serge, Army, Women's, Green, 18WR

8410-01-415-7011—Slacks, Serge, Army, Women's, Green, 18MR

8410-01-415-7012—Slacks, Serge, Army, Women's, Green, 14MT

8410-01-415-7013—Slacks, Serge, Army, Women's, Green, 16WT

8410-01-415-7014—Slacks, Serge, Army, Women's, Green, 16MP

8410-01-415-7015—Slacks, Serge, Army, Women's, Green, 16MT

8410-01-415-7016—Slacks, Serge, Army, Women's, Green, 20MR

8410-01-415-7017—Slacks, Serge, Army, Women's, Green, 14JT

8410-01-415-7018—Slacks, Serge, Army, Women's, Green, 26MR

8410-01-415-7019—Slacks, Serge, Army, Women's, Green, 18MT

8410-01-415-7021—Slacks, Serge, Army, Women's, Green, 12MR

8410-01-415-7022—Slacks, Serge, Army, Women's, Green, 16JR

8410-01-415-7024—Slacks, Serge, Army, Women's, Green, 16JR

8410-01-415-7025—Slacks, Serge, Army, Women's, Green, 22MR

8410-01-415-7026—Slacks, Serge, Army, Women's, Green, 24MR

8410-01-415-7028—Slacks, Serge, Army, Women's, Green, 12JR

8410-01-415-7029—Slacks, Serge, Army, Women's, Green, 12WR

8410-01-415-7030—Slacks, Serge, Army, Women's, Green, 16JT

8410-01-415-8446—Slacks, Serge, Army, Women's, Green, 10WT

8410-01-415-8450—Slacks, Serge, Army, Women's, Green, 12JP

8410-01-415-8453—Slacks, Serge, Army, Women's, Green, 12MT

8410-01-415-8455—Slacks, Serge, Army, Women's, Green, 12WT

8410-01-415-8457—Slacks, Serge, Army, Women's, Green, 14MP

8410-01-415-8460—Slacks, Serge, Army, Women's, Green, 16WP

8410-01-415-8572—Slacks, Serge, Army, Women's, Green, 10JP

8410-01-415-8573—Slacks, Serge, Army, Women's, Green, 10WP

8410-01-455-5486—Slacks, Serge, Army, Women's, Green, 4MP

8410-01-455-5488—Slacks, Serge, Army, Women's, Green, 6MP

8410-01-455-5490—Slacks, Serge, Army, Women's, Green, 6WP

8410-01-455-5494—Slacks, Serge, Army, Women's, Green, 8MP

8410-01-455-5496—Slacks, Serge, Army, Women's, Green, 8WP

8410-01-455-5500—Slacks, Serge, Army, Women's, Green, 20WR

Mandatory Source(s) of Supply: VGS, Inc., Cleveland, OH

Contracting Activity: Defense Logistics Agency Troop Support

Amy B. Jensen,
Director, Business Operations.

[FR Doc. 2017-02801 Filed 2-9-17; 8:45 am]

BILLING CODE 6353-01-P